DEPARTMENT OF ENERGY

Federal Energy Regulatory Commission

Combined Notice of Filings #1

Take notice that the Commission received the following electric corporate filings:

Docket Numbers: EC24-70-000.

Applicants: Terra-Gen Power Holdings II, LLC on behalf of itself and its Public Utility Subsidiaries.

Description: Application for Authorization Under Section 203 of the Federal Power Act of Terra-Gen Power Holdings II, LLC.

Filed Date: 4/16/24.

Accession Number: 20240416-5278.

Comment Date: 5 p.m. ET 5/7/24.

Take notice that the Commission received the following Complaints and Compliance filings in EL Dockets:

Docket Numbers: EL24-103-000.

Applicants: PSEG Renewable Transmission LLC.

Description: Petition for Declaratory Order of PSEG Renewable Transmission LLC.

Filed Date: 4/15/24.

Accession Number: 20240415-5328.

Comment Date: 5 p.m. ET 5/15/24.

Take notice that the Commission received the following electric rate filings:

Docket Numbers: ER19-1889-003; ER23-1015-000; ER18-1984-003; ER18-1984-004; ER23-1016-000; ER13-2386-008; ER24-1161-000; ER23-2750-002; ER10-2847-006; ER10-2847-007; ER10-2818-006; ER10-2818-007; ER10-2818-008; ER23-1017-000; ER24-1159-000; ER10-2806-006; ER10-2806-007; ER10-2806-008; ER23-1018-000; ER24-1160-000; ER14-963-006; ER15-2539-001; ER23-2751-002; ER23-2752-002.

Applicants: WHITE ROCK WIND WEST, LLC,WHITE ROCK WIND EAST, LLC, TransAlta Wyoming Wind LLC, TransAlta Wyoming Wind LLC, TransAlta Energy Marketing (U.S.) Inc., TransAlta Energy Marketing (U.S.) Inc., TransAlta Energy Marketing (U.S.) Inc., TransAlta Energy Marketing Corp., TransAlta Energy Marketing Corp., TransAlta Energy Marketing Corporation, TransAlta Centralia Generation LLC, HORIZON HILL WIND, LLC, Lakeswind Power Partners, LLC, Lakeswind Power Partners, LLC, Big Level Wind LLC, Big Level Wind LLC, Antrim Wind Energy LLC, Antrim Wind Energy LLC.

Description: Amendment to December 30, 2022, Triennial Market Power Analysis for Northeast Region of TransAlta Energy Marketing (U.S.) Inc., et al.

Filed Date: 4/10/24.

Accession Number: 20240410-5190.

Comment Date: 5 p.m. ET 5/1/24.

Docket Numbers: ER24-1220-000.

Applicants: 68SF 8me LLC.

Description: Report Filing: 68SF 8me LLC MBR Tariff Effective Date to be effective N/A.

Filed Date: 4/16/24.

Accession Number: 20240416-5247.

Comment Date: 5 p.m. ET 4/30/24.

Docket Numbers: ER24-1341-001.

Applicants: Tri-State Generation and Transmission Association, Inc.

Description: Tariff Amendment: Limited Amendment to Rate Schedule No. 366 and Motion for Leave to Answer to be effective 4/28/2024.

Filed Date: 4/16/24.

Accession Number: 20240416-5238.

Comment Date: 5 p.m. ET 4/22/24.

Docket Numbers: ER24-1769-000.

Applicants: Midcontinent Independent System Operator, Inc.

Description: § 205(d) Rate Filing: 2024-04-16_SA 4275 NSP-NSP GIA (R1036) to be effective 4/8/2024.

Filed Date: 4/16/24.

Accession Number: 20240416-5216.

Comment Date: 5 p.m. ET 5/7/24.

Docket Numbers: ER24-1770-000.

Applicants: AMA QSE, LLC.

Description: Baseline eTariff Filing: Petition for Blanket MBR Authorization with Waivers & Expedited Treatment to be effective 5/1/2024.

Filed Date: 4/16/24.

Accession Number: 20240416-5218.

Comment Date: 5 p.m. ET 5/7/24.

Docket Numbers: ER24-1771-000.

Applicants: PJM Interconnection, L.L.C.

Description: § 205(d) Rate Filing: Second Amended ISA, Service Agreement No. 5757; AC1-161 to be effective 6/17/2024.

Filed Date: 4/16/24.

Accession Number: 20240416-5234.

Comment Date: 5 p.m. ET 5/7/24.

Docket Numbers: ER24-1772-000.

Applicants: PJM Interconnection, L.L.C.

Description: § 205(d) Rate Filing: Regulation Market Redesign to be effective 6/16/2024.

Filed Date: 4/16/24.

Accession Number: 20240416-5240.

Comment Date: 5 p.m. ET 5/7/24.

Docket Numbers: ER24-1773-000.

Applicants: Dominion Energy South Carolina, Inc.

Description: § 205(d) Rate Filing: Southeastern Power Admin Revised NITSA to be effective 5/1/2024.

Filed Date: 4/17/24.

Accession Number: 20240417-5029.

Comment Date: 5 p.m. ET 5/8/24.

Docket Numbers: ER24-1775-000.

Applicants: Southwest Power Pool, Inc.

Description: § 205(d) Rate Filing: Revisions to Implement Congestion Hedging Improvements to be effective 12/31/9998.

Filed Date: 4/17/24.

Accession Number: 20240417-5086.

Comment Date: 5 p.m. ET 5/8/24.

Docket Numbers: ER24-1776-000.

Applicants: Pacific Gas and Electric Company.

Description: § 205(d) Rate Filing: TFA Naval Air Station Lemoore.

Filed Date: 4/17/24.

Accession Number: 20240417-5094.

Comment Date: 5 p.m. ET 5/8/24.

Docket Numbers: ER24-1777-000.

Applicants: PJM Interconnection, L.L.C.

Description: § 205(d) Rate Filing: Amendment to ISA, SA No. 6738; Queue No. AC2-090 (amend) to be effective 6/17/2024.

Filed Date: 4/17/24.

Accession Number: 20240417-5115.

Comment Date: 5 p.m. ET 5/8/24.

Docket Numbers: ER24-1778-000.

Applicants: Duke Energy Progress, LLC, Duke Energy Carolinas, LLC.

Description: § 205(d) Rate Filing: Duke Energy Progress, LLC submits tariff filing per 35.13(a)(2)(iii: DEC-DEP Update to Attachment N-1 of Joint OATT to be effective 6/17/2024.

Filed Date: 4/17/24.

Accession Number: 20240417-5134.

Comment Date: 5 p.m. ET 5/8/24.

Docket Numbers: ER24-1779-000.

Applicants: DesertLink, LLC.

Description: Informational Update of 2024 Transmission Revenue Requirement of DesertLink, LLC.

Filed Date: 4/15/24.

Accession Number: 20240415-5339.

Comment Date: 5 p.m. ET 5/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 17, 2024.
Debbie-Anne A. Reese,
Acting Secretary.

[FR Doc. 2024-08716 Filed 4-23-24; 8:45 am]

BILLING CODE 6717-01-P